DEPARTMENT OF THE INTERIOR

Bureau of Land Management

[LLCOF02000 L14400000.ER0000; COC-49757]

Notice of Realty Action; Recreation and Public Purposes Act Classification for Lease in Chaffee County, Colorado

AGENCY: Bureau of Land Management, Interior.

ACTION: Notice of realty action.

SUMMARY: The Bureau of Land Management (BLM) has examined and found suitable for classification for lease under the Recreation and Public Purposes (R&PP) Act, as amended (43 U.S.C. 860 et seq.), approximately 19.34 acres of public land in Chaffee County, Colorado. The BLM proposes to amend the Colorado Parks and Wildlife's (CPW) existing R&PP Lease (COC-49757) to include the following 19.34 acres in the BLM Salida East Recreation area. The BLM and CPW jointly manage a number of recreation sites in the Arkansas River corridor under a cooperative management agreement. Public lands jointly managed by the BLM and CPW are designated as the Arkansas Headwaters Recreation Area (AHRA). The lands requested in the CPW's lease amendment application are located on public lands within the river corridor and are currently managed by the BLM as a developed recreational facility. If the lease is approved the lands will become part of the AHRA. An R&PP lease to CPW will allow improvements in the Salida East facilities and enhance opportunities for public recreation and public safety.

DATES: Interested parties may submit written comments regarding the proposed classification of lands, or lease of the land, on or before November 2, 2015.

ADDRESSES: Written comments concerning this notice should be addressed to: Bureau of Land Management, Royal Gorge Field Office, 3028 East Main St., Cañon City, CO 81212.

FOR FURTHER INFORMATION CONTACT: Jeff Brown, Realty Specialist, BLM Front Range District Office, by phone (719) 852-6260, or by email at j75brown@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public land in Chaffee County, Colorado, has been examined and found suitable for classification, for lease, to CPW under the provisions of the R&PP Act, as amended (43 U.S.C 869 et seq.):

A certain parcel of land, located entirely within government lots 17, 18 and 19, sec. 10, T. 49 N., R. 9 E., N.M.P.M., as surveyed in the official plat of record, accepted December 22, 1999, T. 49 N., R. 9 E., NMPM, Sec. 10, described as follows:

Beginning at corner no. 1 of Tract 37, as surveyed in the official plat of record, accepted December 22, 1999; thence northerly along the western boundary of government lot 17 to the intersection of the centerline of the Arkansas River; thence southeasterly along the centerline of the Arkansas River to the intersection of the southerly boundary of sec. 10; thence westerly, along the southern boundary of sec. 10 to the intersection with the northerly Right-of-Way for U.S. Highway 50, as described in the BLM Right-of-Way Grant No. COD-0-054071; thence northwesterly along said U.S. Highway 50 Right-of-Way to a point at the intersection of the projected 3-4 line of said Tract 37 and the said U.S. Highway Right-of-Way; thence northeasterly to corner no. 3 of said Tract 37; thence along the 3-4 line of said Tract 37 to corner no. 4 of said Tract 37; thence along the 4-5 line of said Tract 37 to corner no. 5 of said Tract 37; thence along the 5-6 line of said Tract 37 to corner no. 6 of said Tract 37; thence along the 6-1 line of said Tract 37 to corner no. 1 of said Tract 37, the point of beginning.

Excluding any portions of any valid and existing mining claims located within the above described parcel at the time of the publication of this notice.

The above described parcel of land contains 19.34 ac. more or less, as determined through official records.

The land is not needed for any Federal purpose other than for current and proposed recreational purposes. The lease is consistent with current bureau land use planning and would be in the public interest.

Detailed information concerning this proposed project, including, but not limited to documentation relating to compliance with applicable environmental and cultural resource laws, is available for review at the BLM Royal Gorge Field Office at the address above.

Upon publication of this notice in the Federal Register, the lands described above will be segregated from all forms of appropriation under the public lands laws, including the general mining laws, except for lease under the R&PP Act; leasing under the mineral leasing laws; and disposal under the mineral material disposal laws.

Classification Comments: Interested parties may submit comments involving the suitability of the land for joint management by the BLM and CPW with the additional improvements and upgrades proposed by CPW. Comments on the classification are restricted to whether the land is physically suited for the proposal, whether the use will maximize the future use or uses of the land, whether the use is consistent with local planning and zoning, or if the use is consistent with State and Federal programs.

Application Comments: Interested parties may submit comments regarding the specific use proposed in the application and plan of development that would amend R&PP lease COC- 49757 and whether the BLM followed proper administrative procedures in reaching the decision to lease under the R&PP Act.

Any comments will be reviewed by the BLM who may sustain, vacate, or modify this realty action. In the absence of any adverse comments, the classification of the land described in this notice will become effective November 17, 2015.

Before including your address, phone number, email address, or other personal identifying information in your comment, you should be aware that your entire comment—including your personal identifying information—may be made publicly available at any time. While you can ask us in your comment to withhold your personal identifying information from public review, we cannot guarantee that we will be able to do so.

Authority: 43 CFR 2741.5.

Ruth Welch,
BLM Colorado State Director.

[FR Doc. 2015-23483 Filed 9-17-15; 8:45 am]

BILLING CODE 4310-JB-P